SECURITIES AND EXCHANGE COMMISSION

[Release No. 34-100297; File No. SR-NYSECHX-2024-22]

Self-Regulatory Organizations; NYSE Chicago, Inc.; Notice of Filing and Immediate Effectiveness of Proposed Rule Change To Amend Article 7, Rule 11

June 7, 2024.

Pursuant to section 19(b)(1) ¹ of the Securities Exchange Act of 1934 (“Act”) ² and Rule 19b-4 thereunder,³ notice is hereby given that, on June 4, 2024, the NYSE Chicago, Inc. (“NYSE Chicago” or the “Exchange”) filed with the Securities and Exchange Commission (the “Commission”) the proposed rule change as described in Items I and II below, which Items have been prepared by the self-regulatory organization. The Commission is publishing this notice to solicit comments on the proposed rule change from interested persons.

¹ 15 U.S.C. 78s(b)(1).

² 15 U.S.C. 78a.

³ 17 CFR 240.19b-4.

I. Self-Regulatory Organization's Statement of the Terms of Substance of the Proposed Rule Change

The Exchange proposes to amend Article 7, Rule 11 (Fixing and Paying Fees and Charges) to permit direct debiting of undisputed or final fees or other sums due the Exchange by Participants and Participant Firms with one or more Trading Permits and each applicant for a Trading Permit. The proposed rule change is available on the Exchange's website at www.nyse.com, at the principal office of the Exchange, and at the Commission's Public Reference Room.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and the Statutory Basis for, the Proposed Rule Change

1. Purpose

The Exchange proposes to amend Article 7, Rule 11 (Fixing and Paying Fees and Charges) to permit direct debiting of undisputed or final fees or other sums due the Exchange by Participants and Participant Firms with one or more Trading Permits and each applicant for a Trading Permit.

Article 7, Rule 11 currently provides that the Exchange may fix the fees and other charges payable by a Participant in such amount as the Exchange deems necessary. Article 7, Rule 11 further provides that fees and charges shall be payable in accordance with the Exchange's schedule of fees and charges.

The Exchange proposes to require that Participants and Participant Firms that hold a Trading Permit, and each applicant for a Trading Permit, provide one or more clearing account numbers that correspond to an account(s) at the National Securities Clearing Corporation (“NSCC”) for purposes of permitting the Exchange to collect through direct debit any undisputed or final fees and/or other sums due to the Exchange. The Exchange would, however, permit a Participant, Participant Firm or applicant for a Trading Permit to opt-out of the requirement to provide NSCC clearing account numbers and establish alternative payment arrangements. In addition, consistent with current Article 7, Rule 12, the proposed change would not apply to disciplinary fines or monetary sanctions governed by Rule 10.8320. The proposed rule would also not apply to regulatory fees related to the Central Registration Depository (“CRD system”), which are collected by the Financial Industry Regulatory Authority, Inc. (“FINRA”).⁴ The proposed change is based on the rules of the Exchange's affiliate NYSE American LLC (“NYSE American”) and other exchanges.⁵

⁴ The CRD system is the central licensing and registration system for the U.S. securities industry. The CRD system enables individuals and firms seeking registration with multiple states and self-regulatory organizations to do so by submitting a single form, fingerprint card and a combined payment of fees to FINRA. Through the CRD system, FINRA maintains the qualification, employment and disciplinary histories of registered associated persons of broker-dealers. Certain of the regulatory fees provided in the Fee Schedule are collected and retained by FINRA via the CRD system for the registration of employees of Participants and Participant Firms of the Exchange that are not FINRA members. These fees would be excluded from direct debiting.

⁵ See NYSE American Rule 41 (Collection of and Failure to Pay Exchange Fees). See also, e.g., MEMX LLC (“MEMX”) Rule 15.3(a) (Collection of Exchange Fees and Other Claims and Billing Policy) requires each MEMX member and all applicants for registration as members are required to provide one or more clearing account numbers that correspond to an account(s) at the NSCC for purposes of permitting the Exchange to debit certain fees, fines, charges and/or other monetary sanctions or other monies due to the Exchange. As noted, the proposed rule would not apply to disciplinary fines or monetary sanctions, and the proposal does not propose to change this. The MEMX rule also requires members to submit billing disputes within a certain time period. The Exchange's current billing disputes policy is set forth under section “P” of the Fee Schedule, available at https://www.nyse.com/publicdocs/nyse/NYSE_Chicago_Fee_Schedule.pdf, and provides that all fee disputes must be submitted no later than sixty days after receipt of a billing invoice.

Under the proposal, the Exchange would send a monthly invoice to each Participant and Participant Firm, generally on the 5th business day of each month as is currently the practice, for the debit amount due to the Exchange for the prior month. The Exchange would also send files to NSCC each month by the 11th business day of the month in order to initiate the debit of the amount due to the Exchange as provided for in the prior month's invoice. The Exchange anticipates that NSCC will process the debits on the day it receives the file or the following business day. Because Participants and Participant Firms would be provided with an invoice approximately 1 week before the debit date, Participants and Participant Firms will have adequate time to contact the Exchange with any questions concerning the invoice. If a Participant or Participant Firm disagrees with the invoice in whole or in part, the Exchange would not commence the debit for the disputed amount until the dispute is resolved. Specifically, the Exchange would not include the disputed amount (or the entire invoice if it is not feasible to identify the disputed amounts) in the NSCC debit amount where the Participant or Participant Firm provides written notification of the dispute to the Exchange by the later of the 15th of the month, or the following business day if the 15th is not a business day, and the amount in dispute is at least $10,000 or greater.

Following receipt of the file from the Exchange, NSCC would proceed to debit the amounts indicated from the account of the Participant or Participant Firm that clears the applicable transactions (“Clearing Participant,” i.e., either a Participant or Participant Firm that is self-clearing or another Participant or Participant Firm that provides clearing services on behalf of the Participant or Participant Firm) and disburse such amounts to the Exchange. Where a Participant or Participant Firm clears through another a Participant or Participant Firm, the Exchange understands that the estimated transaction fees owed to the Exchange are typically debited by the Clearing Participant on a daily basis using daily transaction detail reports provided by the Exchange to the Clearing Participant in order to ensure adequate funds have been escrowed. The Exchange notes that it is proposing to permit a Participant or Participant Firm to designate one or more clearing account numbers that correspond to an account(s) at NSCC to permit Participants and Participant Firms that clear through multiple different clearing accounts to set up the billing process with the Exchange in a manner that is most efficient for internal reconciliation and billing purposes of the Participant or Participant Firm.

The Exchange believes that the proposed debiting process would provide an efficient method of collecting undisputed or final fees and/or sums due to the Exchange consistent with the practice on other exchanges.⁶ Moreover, the Exchange believes that it is reasonable to permit a Participant, Participant Firm and applicants for Trading Permit to opt-out of the requirement to provide an NSCC account number to permit direct debiting and instead establish alternative payment arrangements. Finally, the Exchange believes that it is also reasonable to provide for a $10,000 limitation on pre-debit billing disputes since it would be inefficient to delay a direct debit for a de minimis amount. A Participant or Participant Firm would still be able to dispute billing amounts that are less than $10,000 pursuant to the billing policy set forth in the Fee Schedule.⁷

⁶ See note 5, supra. In addition to MEMX, IEX, Nasdaq, Nasdaq BX, and Nasdaq Phlx all provide for collection of fees and fines through direct debits. See IEX Rule 15.120; Nasdaq Rule Equity 7, Section 70; Nasdaq BX Rule Equity 7, Section 111; and Nasdaq Phlx Rule Equity 7, Section 2.

⁷ See note 5, supra. The Exchange would also change “schedule of fees and charges” in Article 7, Rule 11(a) to “Fee Schedule.”

To effectuate this change, the Exchange would add the following text to Article 7, Rule 11(a) (italicized):

The Exchange shall fix the fees and other charges payable by a Participant in such amount as the Exchange deems necessary. Fees and charges shall be payable in accordance with the Exchange's Fee [s]Schedule[ of fees and charges]. Each Participant and Participant Firm that has one or more equity Trading Permits, and each applicant for a Trading Permit, shall be required to provide one or more clearing account numbers that correspond to an account(s) at the National Securities Clearing Corporation (“NSCC”) for purposes of permitting the Exchange to collect through direct debit any undisputed or final fees and/or other sums due to the Exchange; provided, however, that a Participant, Participant Firm or applicant may request to opt-out of the requirement to provide an NSCC clearing account number and establish alternative payment arrangements. If a Participant or Participant Firm disputes an invoice, the Exchange will not include the disputed amount in the debit if the Participant or Participant Firm has disputed the amount in writing to the Exchange by the 15th of the month, or the following business day if the 15th is not a business day, and the amount in dispute is at least $10,000 or greater. The Exchange will not debit fees related to the CRD system set forth in the Fee Schedule, which are collected and retained by FINRA.

The remaining provisions of the current rule would remain unchanged.

2. Statutory Basis

The proposed rule change is consistent with section 6(b) of the Act,⁸ in general, and furthers the objectives of section 6(b)(5),⁹ in particular, because it is designed to prevent fraudulent and manipulative acts and practices, to promote just and equitable principles of trade, to foster cooperation and coordination with persons engaged in facilitating transactions in securities, to remove impediments to, and perfect the mechanism of, a free and open market and a national market system and, in general, to protect investors and the public interest. Specifically, the Exchange believes that the proposed direct debit process would provide Participants and Participant Firms with an efficient process to pay undisputed or final fees and/or sums due to the Exchange.

⁸ 15 U.S.C. 78f(b).

⁹ 15 U.S.C. 78f(b)(5).

The Exchange believes that the proposal to debit NSCC accounts directly is reasonable because it would ease the administrative burden on Participants and Participant Firms of paying monthly invoices and avoiding overdue balances, and would provide efficient collection from all Participants and Participant Firms who owe monies to the Exchange. Moreover, the Exchange believes that the minimum time frame provided to Participants and Participant Firms to dispute invoices is reasonable and adequate to enable Participants and Participant Firms to identify potentially erroneous charges. In addition, the Exchange believes that the $10,000 limitation on pre-debit billing disputes is reasonable because it would be inefficient to delay a direct debit for a de minimis amount. The same $10,000 limitation is in place on exchanges that have adopted direct debit rules.¹⁰ Participants and Participant Firms will still be able to dispute billing amounts that are less than $10,000 pursuant to the Exchange's Fee Schedule. Finally, the Exchange believes that it is reasonable to permit Participants, Participant Firms or applicants to request to opt-out of the requirement to provide NSCC account information and instead establish alternative payment arrangements with the Exchange.

¹⁰ See notes 6 & 7, supra.

B. Self-Regulatory Organization's Statement on Burden on Competition

The Exchange does not believe that the proposed rule change will impose any burden on competition that is not necessary or appropriate in furtherance of the purposes of the Act. The proposed rule change would apply uniformly to all Participants and Participant Firms that have one or more Trading Permits and to all applicants for Trading Permits, and will not disproportionately burden or otherwise impact any single Participant or Participant Firm.

The Exchange does not believe that the proposal will create an intermarket burden on competition since the Exchange will only debit fees (other than de minimis fees below $10,000) that are undisputed by the Participant or Participant Firm and Participants and Participant Firms will have a reasonable opportunity to dispute the fees both before and after the direct debit process. In addition, Participants and Participant Firms will have a reasonable opportunity to opt-out of the requirement to provide clearing account information and instead adopt alternative payment arrangements.

The Exchange also does not believe that the proposal will create an intramarket burden on competition, since the proposed direct debit process will be applied equally to all Participants and Participant Firms. Moreover, other exchanges utilize a similar process which the Exchange believes is generally familiar to Participants and Participant Firms. Consequently, the Exchange does not believe that the proposal raises any new or novel issues that have not been previously considered by the Commission in connection with direct debit and billing policies of other exchanges. Further, this proposal is expected to provide a cost savings to the Exchange in that it would alleviate administrative processes related to the collection of monies owed to the Exchange. In addition, the debiting process would mitigate against Participant and Participant Firm accounts becoming overdue.

C. Self-Regulatory Organization's Statement on Comments on the Proposed Rule Change Received From Members, Participants, or Others

No written comments were solicited or received with respect to the proposed rule change.

III. Date of Effectiveness of the Proposed Rule Change and Timing for Commission Action

The foregoing rule change has become effective pursuant to section 19(b)(3)(A) of the Act ¹¹ and Rule 19b-4(f)(6) ¹² thereunder because the proposal does not: (i) significantly affect the protection of investors or the public interest; (ii) impose any significant burden on competition; and (iii) by its terms, become operative for 30 days from the date on which it was filed, or such shorter time as the Commission may designate if consistent with the protection of investors and the public interest, provided that the Exchange has given the Commission notice of its intent to file the proposed rule change, along with a brief description and text of the proposed rule change, at least five business days prior to the date of filing of the proposed rule change, or such shorter time as designated by the Commission.¹³

¹¹ 15 U.S.C. 78s(b)(3)(A).

¹² 17 CFR 240.19b-4(f)(6).

¹³ In addition, Rule 19b-4(f)(6)(iii) requires the Exchange to give the Commission written notice of the Exchange's intent to file the proposed rule change, along with a brief description and text of the proposed rule change, at least five business days prior to the date of filing of the proposed rule change, or such shorter time as designated by the Commission. The Exchange has satisfied this requirement.

A proposed rule change filed under Rule 19b-4(f)(6) normally may not become operative prior to 30 days after the date of filing. However, Rule 19b-4(f)(6)(iii) ¹⁴ permits the Commission to designate a shorter time if such action is consistent with the protection of investors and the public interest. The Exchange has requested that the Commission waive the 30-day operative delay period. The Commission believes that waiver of the 30-day operative delay period is consistent with the protection of investors and the public interest. Specifically, the proposal would permit the direct debiting of Exchange invoices comparable to the process in place at other exchanges.¹⁵ Waiver of the operative delay would allow the Exchange to implement the direct debiting process for the billing cycle starting in July. For these reasons, the Commission believes that waiving the 30-day operative delay is consistent with the protection of investors and the public interest, and designates the proposed rule change to be operative upon filing with the Commission.¹⁶

¹⁴ 17 CFR 240.19b-4(f)(6)(iii).

¹⁵ See supra note 5.

¹⁶ For purposes only of waiving the operative delay for this proposal, the Commission has considered the proposed rule's impact on efficiency, competition, and capital formation. See 15 U.S.C. 78c(f).

At any time within 60 days of the filing of the proposed rule change, the Commission summarily may temporarily suspend such rule change if it appears to the Commission that such action is necessary or appropriate in the public interest, for the protection of investors, or otherwise in furtherance of the purposes of the Act.¹⁷ If the Commission takes such action, the Commission shall institute proceedings to determine whether the proposed rule change should be approved or disapproved.

¹⁷ 15 U.S.C. 78s(b)(3)(C).

IV. Solicitation of Comments

Interested persons are invited to submit written data, views and arguments concerning the foregoing, including whether the proposed rule change is consistent with the Act. Comments may be submitted by any of the following methods:

Electronic Comments

• Use the Commission's internet comment form (https://www.sec.gov/rules/sro.shtml); or

• Send an email to rule-comments@sec.gov. Please include file number SR-NYSECHX-2024-22 on the subject line.

Paper Comments

• Send paper comments in triplicate to Secretary, Securities and Exchange Commission, 100 F Street NE, Washington, DC 20549-1090.

All submissions should refer to file number SR-NYSECHX-2024-22. This file number should be included on the subject line if email is used. To help the Commission process and review your comments more efficiently, please use only one method. The Commission will post all comments on the Commission's internet website (https://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for website viewing and printing in the Commission's Public Reference Room, 100 F Street NE, Washington, DC 20549, on official business days between the hours of 10 a.m. and 3 p.m. Copies of the filing also will be available for inspection and copying at the principal office of the Exchange. Do not include personal identifiable information in submissions; you should submit only information that you wish to make available publicly. We may redact in part or withhold entirely from publication submitted material that is obscene or subject to copyright protection. All submissions should refer to file number SR-NYSECHX-2024-22 and should be submitted on or before July 5, 2024.

For the Commission, by the Division of Trading and Markets, pursuant to delegated authority.¹⁸
¹⁸ 17 CFR 200.30-3(a)(12).
Sherry R. Haywood,
Assistant Secretary.

[FR Doc. 2024-12889 Filed 6-12-24; 8:45 am]

BILLING CODE 8011-01-P